DEPARTMENT OF HOMELAND SECURITY

Coast Guard

33 CFR Part 117

[Docket No. USCG-2015-0351]

Drawbridge Operation Regulation; Lewis and Clark River, Astoria, OR

AGENCY: Coast Guard, DHS.

ACTION: Notice of deviation from drawbridge regulation.

SUMMARY: The Coast Guard has issued a temporary deviation from the operating schedule that governs the Oregon State (Lewis and Clark River) highway Bridge across the Lewis and Clark River, mile 1.0, at Astoria, OR. The deviation is necessary to accommodate bridge maintenance activities on the bridge. This deviation allows the bridge to remain in the closed-to-navigation position and need not open to maritime traffic.

DATES: This deviation is effective from 7 a.m. on May 11, 2015 to 5 p.m. on August 30, 2015.

ADDRESSES: The docket for this deviation, [USCG-2015-0351] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Steven M. Fischer, Thirteenth Coast Guard District Bridge Program Administrator, telephone 206-220-7282, email d13-pf-d13bridgesuscg.mil. If you have questions on viewing the docket, call Cheryl Collins, Program Manager, Docket Operations, telephone 202-366-9826.

SUPPLEMENTARY INFORMATION: The Oregon Department of Transportation (ODOT) has requested that the Lewis and Clark River Bridge, mile 1.0, remain in the closed-to-navigation position, and need not open to vessel traffic Monday through Friday expect on Mondays from 7 a.m. to 4 p.m. when given 3 hours advanced notice. The deviation is necessary to facilitate bridge maintenance activities to include repairing and preserving the bascule drawbridge structural steel. The Lewis and Clark Bridge provides a vertical clearance of 17.3 feet above mean high water when in the closed-to-navigation position. The normal operating schedule of the Oregon State highway bridge can be found in 33 CFR 117.899(c). This deviation period is from 7 a.m. on May 11, 2015 to 5 p.m. on August 30, 2015. The deviation allows the bascule span of the Lewis and Clark Bridge to remain in the closed-to-navigation position Monday through Friday except to open the span(s) on Mondays from 7 a.m. to 4 p.m. with a three-hour advance notice. The bridge will operate as normal on Saturday and Sunday. Waterway usage on the Lewis and Clark River is primarily small recreational boaters and fishing vessels transiting to and from Fred Wahl Marine Construction Inc.

The bascule spans of the bridge will have a containment system installed which will reduce the vertical clearance navigation clearance by 5 feet from 17.3 feet above mean high water to 12.3 feet above mean high water. Vessels able to pass through the bridge in the closed positions may do so at anytime. The bridge will be able to open for emergencies if a three-hour notice is given from 7 a.m. to 5 p.m. Monday through Friday; on Saturdays and Sundays the bridge will be able to open in accordance with 33 CFR 117.899(c), and there is no immediate alternate route for vessels to pass. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: April 21, 2015.
Steven M. Fischer,
Bridge Administrator, Thirteenth Coast Guard District.

[FR Doc. 2015-09788 Filed 4-27-15; 8:45 am]

BILLING CODE 9110-04-P